ENVIRONMENTAL PROTECTION AGENCY

[FRL—6915-7]

Strategy for Research on Environmental Risks to Children

AGENCY: Environmental Protection Agency.

ACTION: Notice of availability of a final document.

SUMMARY: The U.S. Environmental Protection Agency (EPA), Office of Research and Development (ORD), is today announcing the availability of a final document, Strategy for Research on Environmental Risks to Children, EPA 600/R-00/068, dated October 2000. ORD has prepared the Strategy for Research on Environmental Risks to Children to strengthen the scientific foundation of the EPA risk assessments and risk management decisions that affect children. ORD strategies provide a framework of research needs and priorities to guide its programs over the next five to ten years. They form the basis for more detailed research plans, which in turn link to individual ORD laboratory implementation plans. The strategy includes a program of research in hazard identification, dose-response and exposure assessment, and risk reduction, as well as problem-oriented research that addresses current critical needs identified by EPA Program Offices and Regions.

ADDRESSES: A limited number of copies of the Strategy for Research on Environmental Risks to Children are available from the National Service Center for Environmental Publications.

Request a copy by telephoning 1-800-490-9198 or 513-489-8190 and providing the title and the EPA number for the document, EPA 600/R-00/068. Internet users may obtain a copy from the EPA's Office of Research and Development home page. The URL is http://www.epa.gov/ORD.

FOR FURTHER INFORMATION CONTACT: Ms. Karen Hammerstrom, National Center for Environmental Assessment (8601D), U.S. Environmental Protection Agency, 1200 Pennsylvania Avenue, NW., Washington, DC 20460; telephone: 202-564-3258; facsimile: 202-565-0065; E-mail: hammerstrom.karen@epa.gov.

SUPPLEMENTARY INFORMATION: The Strategy for Research on Environmental Risks to Children focuses on six objectives: (1) To establish direction for a long-term, stable core research program in children's environmental health that leads to sustained risk reduction through more accurate, scientifically based risk assessments for children, (2) to identify research to answer the key questions about children's environmental health risks and increase our understanding of when and why children respond differently from adults to environmental agents, (3) to identify research that will help to reduce children's risks, (4) to provide a research agenda that identifies priorities for the ORD intramural and extramural programs, (5) to inform EPA scientists, risk assessors, and risk managers of the research related to children at EPA and other Federal agencies, and (6) to provide guiding principles for implementation.

To meet these objectives, the strategy describes a research program with short-term and long-term goals in the following areas:

• Data to reduce uncertainties in risk assessment through mode of action research, epidemiology and clinical studies, exposure field studies, and activity pattern and exposure factor studies

• Risk assessment methods and models for children, including dose-response and exposure models

• Experimental methods for studying mechanisms of action in children

• Risk reduction in children's indoor environments

• Methods of communicating risks to children and reduction of risk through parental and community actions

The strategy provides the framework for a program that continues well into the future. The success of the program will depend on a number of factors, not the least of which is engagement and partnership with key stakeholders. In addition to EPA's Program Offices and Regions, these key stakeholders include industry; States, Tribes, and local communities; Federal organizations including the National Institute of Environmental Health Sciences, the Centers for Disease Control and Prevention, and the Agency for Toxic Substances and Disease Registry; and the international community.

Dated: December 6, 2000.
Norine E. Noonan,
Assistant Administrator for Research and Development.

[FR Doc. 00-31619 Filed 12-11-00; 8:45 am]

BILLING CODE 6560-50-U